FEDERAL MARITIME COMMISSION

[Docket No. 15-08]

General Motors LLC v. Nippon Yusen Kabushiki Kaisa; Wallenius Wilhelmsen Logistics As; Eukor Car Carriers Inc.

Notice of Filing of Complaint and Assignment

Notice is given that a complaint has been filed with the Federal Maritime Commission (Commission) by General Motors LLC, hereinafter “Complainant,” against Nippon Yusen Kabushiki Kaisha (“NYK Japan”), Wallenius Wilhemsen Logistics AS (“WWL Norway”), and EUKOR Car Carriers Inc. (“EUKOR”), hereinafter “Respondents.” Complainant states it is a Delaware limited liability company and “one of the world's largest automobile original equipment manufacturers.” Complainant alleges that Respondent NYK Japan is a Japanese company that ships vehicles “into and out of the United States.” Complainant alleges that Respondent WWL Norway is a Norwegian company that provides “Vehicle Carrier Services for shipments to and from the United States.” Complainant alleges that Respondent EUKOR is a South Korean company that provides “Vehicle Carrier Services for shipments to and from the United States.”

Complainant alleges that “Respondents have entered in to a secret, unfiled, and not yet effective and/or unlawful agreement and or agreements to allocate customers, raise and fix prices, and rig bids in violation of the Shipping Act. These statutory violations include, but are not limited to 46 U.S.C. 40302(a), 41102(b)(1), 41102(c), 41103(a)(1) and (2), 41104(10), 41105(1) and (6), and 46 CFR 535.401, et. seq.”

Complainant seeks reparations “in a sum to be proven under 46 U.S.C. 41305, with interest . . . and reasonable attorney's fees . . .” and that it “be awarded double its proven actual injury under 46 U.S.C. 41102(b) and 41105(1).”

The full text of the complaint can be found in the Commission's Electronic Reading Room at www.fmc.gov/15-08/.

This proceeding is assigned to the Office of Administrative Law Judges. The initial decision of the presiding officer in this proceeding shall be issued by September 6, 2016, and the final decision of the Commission shall be issued by March 6, 2017.

Rachel E. Dickon,
Assistant Secretary.

[FR Doc. 2015-22910 Filed 9-10-15; 8:45 am]

BILLING CODE 6730-01-P